DEPARTMENT OF TRANSPORTATION

Draft Test Plan To Obtain Interference Tolerance Masks for GNSS Receivers in the L1 Radiofrequency Band (1559-1610 MHz)

AGENCY: Office of the Assistant Secretary for Research and Technology, Department of Transportation.

ACTION: Notice; request for public comment.

SUMMARY: The purpose of this notice is to seek comment from interested parties regarding a draft test plan that the U.S. Department of Transportation (DOT) has developed for the Global Positioning System (GPS) Adjacent Band Compatibility Assessment effort.

DATES: Submit comments on or before October 9, 2015.

ADDRESSES: You may submit comments identified by docket number [DOT-OST-2015-0099] using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation” portion of the SUPPLEMENTARY INFORMATION section below for instructions on submitting comments.

Confidential Business Information: If you wish to submit any information under a claim of confidentiality, you should submit three copies of your complete submission, including the information you claim to be confidential business information, to the address given below under FOR FURTHER INFORMATION CONTACT. In addition, you should submit a copy from which you have deleted the claimed confidential business information to the docket. When you send a comment containing information identified as confidential business information, you should include a cover letter setting forth the reasons you believe the information qualifies as “confidential business information”. (49 CFR 7.17)

FOR FURTHER INFORMATION CONTACT: If you have questions on this notice, contact Stephen M. Mackey, Office of the Assistant Secretary for Research and Technology; Volpe National Transportation Systems Center; Aircraft Wakes and Weather Division, telephone 617-494-2753 or email Stephen.Mackey@dot.gov. If you have questions on viewing or submitting material to the docket, call Barbara Hairston, Docket Operations, telephone 202-366-9826.

SUPPLEMENTARY INFORMATION:

Background and Purpose

In December 2012, DOT developed its GPS Adjacent Band Compatibility Assessment Plan that identifies the processes to: (a) Derive adjacent-band transmitter power limit criteria for assumed new applications necessary to ensure continued operation of GPS services, and (b) determine similar levels for future GPS receivers utilizing modernized GPS and interoperable Global Navigation Satellite System (GNSS) signals. The draft test plan outlines the requirements, overall test plan, and the associated output data needed to successfully perform this component of the GPS Adjacent Band Compatibility assessment.

DOT has previously held three public workshops to discuss the Adjacent Band Compatibility Assessment. Further background, and the draft test plan, can be viewed at: http://www.gps.gov/spectrum/ABC/.

Public Participation

You may submit comments and related material regarding this notice. All comments received will be posted, without change, to http://www.regulations.gov and will include any personal information you have provided.

Submitting comments: If you submit a comment, please include the docket number for this notice (DOT-OST-2015-0099) and provide a reason for each suggestion or recommendation. You may submit your comments and material online or by fax, mail or hand delivery, but please use only one of these means. We recommend that you include your name and a mailing address, an email address, or a telephone number in the body of your document so that we can contact you if we have questions regarding your submission.

To submit your comment online, go to http://www.regulations.gov and use “DOT-OST-2015-0099” as your search term. Locate this notice in the results and click the corresponding “Comment Now” box to submit your comment. If you submit your comments by mail or hand delivery, submit them in an unbound format, no larger than 8½ by 11 inches, suitable for copying and electronic filing. If you submit comments by mail and would like to know that they reached the docket, please enclose a stamped, self-addressed postcard or envelope.

We will consider all comments and material received during the comment period.

Viewing the comments: To view comments, as well as documents mentioned in this notice as being available in the docket, go to http://www.regulations.gov and use “DOT-OST-2015-0099” as your search term. Use the filters on the left side of the page to highlight “Public Submissions” or other document types. If you do not have access to the Internet, you may view the docket online by visiting the Docket Management Facility in Room W12-140 on the ground floor of the Department of Transportation West Building, 1200 New Jersey Avenue SE., Washington, DC 20590, between 9 a.m. and 5 p.m., Monday through Friday, except Federal holidays.

Privacy Act: Anyone can search the electronic form of comments received into any of our dockets by the name of the individual submitting the comment (or signing the comment, if submitted on behalf of an association, business, labor union, etc.). You may review a Privacy Act system of records notice regarding our public dockets in the January 17, 2008 issue of the Federal Register (73 FR 3316).

Issued in Washington, DC, on September 2, 2015.
Gregory D. Winfree,
Assistant Secretary for Research and Technology.

[FR Doc. 2015-22634 Filed 9-8-15; 8:45 am]

BILLING CODE 4910-9X-P